DEPARTMENT OF THE TREASURY

Submission for OMB Review; Comment Request

December 19, 2016.

The Department of the Treasury will submit the following information collection requests to the Office of Management and Budget (OMB) for review and clearance in accordance with the Paperwork Reduction Act of 1995, Public Law 104-13, on or after the date of publication of this notice.

DATES: Comments should be received on or before January 23, 2017 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained by emailing PRA@treasury.gov, calling (202) 622-0934, or viewing the entire information collection request at www.reginfo.gov.

Internal Revenue Service (IRS)

OMB Control Number: 1545-0092.

Type of Review: Revision of a currently approved collection.

Title: U.S. Income Tax Return for Estates and Trusts.

Forms: 1041, Schedule D (Form 1041), Schedule D-1 (Form 1041), Schedule I (Form 1041), Schedule J (Form 1041), Schedule K-1 (Form 1041), 1041-V.

Abstract: IRC section 6012 requires that an annual income tax return be filed for estates and trusts. Data is used to determine that the estates, trusts, and beneficiaries file the proper returns and paid the correct tax. The various schedules (Schedule D, I, J, and K-I) are used in the collection of information under the various authorizing statutes seen below (Legal Statutes). The worksheets are used to figure various taxes and deductions. Form 1041-V allows the Internal Revenue Service to process the payment more accurately and efficiently. The IRS strongly encourages the use of Form 1041-V, but there is no penalty if it is not used.

Affected Public: Businesses or other for-profits.

Estimated Total Annual Burden Hours: 307,784,800.

OMB Control Number: 1545-0181.

Type of Review: Extension without change of a currently approved collection.

Title: Application for Extension of Time to File a Return and/or Pay U.S. Estate (and Generation-Skipping Transfer) Taxes.

Form: 4768.

Abstract: Form 4768 is used by estates to request an extension of time to file an estate (and GST) tax return and/or to pay the estate (and GST) taxes and to explain why the extension should be granted. IRS uses the information to decide whether the extension should be granted.

Affected Public: Individuals and Households.

Estimated Total Annual Burden Hours: 30,710.

OMB Control Number: 1545-0954.

Type of Review: Extension without change of a currently approved collection.

Title: Return for Nuclear Decommissioning Funds and Certain Related Persons.

Form: 1120-ND.

Abstract: A nuclear utility files Form 1120-ND to report the income and taxes of a fund set up by the public utility to provide cash for the dismantling of the nuclear power plant. The IRS uses Form 1120-ND to determine if the fund income taxes are correctly computed and if a person related to the fund or the nuclear utility must pay taxes on self-dealing.

Affected Public: Businesses or other for-profits.

Estimated Total Annual Burden Hours: 3,259.

OMB Control Number: 1545-1595.

Type of Review: Extension without change of a currently approved collection.

Title: Automatic Data Processing—(Rev. Proc. 98-25).

Abstract: Rev. Proc. 98-25 specifies the basic requirements that the IRS considers to be essential in cases where a taxpayers's records are maintained within an Automatic Data Processing System (ADP). If machine-sensible records are lost, stolen, destroyed, or materially inaccurate, the Rev. Proc. requires that a taxpayer promptly notify its District Director and submit a plan to replace the affected records. The District Director will notify the taxpayer of any objection(s) to the taxpayer's plan. Also, the Rev. Proc. provides that a taxpayer who maintains machine-sensible records may request to enter into a Record Retention Limitation Agreement (RRLA) with its District Director.

Affected Public: Businesses or other for-profits.

Estimated Total Annual Burden Hours: 120,000.

OMB Control Number: 1545-1668.

Type of Review: Extension without change of a currently approved collection.

Title: Return of U.S. Persons With Respect to Certain Foreign Partnerships.

Forms: 8865, Sch K-1, Sch O, Sch P.

Abstract: The Taxpayer Relief Act of 1997 significantly modified the information reporting requirements with respect to foreign partnerships. The Act made the following three changes (1) expanded section 6038B to require U.S. persons transferring property to foreign partnerships in certain transactions to report those transfers; (2) expanded section 6038 to require certain U.S. Partners of controlled foreign partnerships to report information about the partnerships; and (3) modified the reporting required under section 6046A with respect to acquisitions and dispositions of foreign partnership interests.

Affected Public: Businesses or other for-profits.

Estimated Total Annual Burden Hours: 245,074.

OMB Control Number: 1545-1722.

Type of Review: Extension without change of a currently approved collection.

Title: Extraterritorial Income Exclusion.

Abstract: A taxpayer uses Form 8873 to claim the gross income exclusion provided for by section 114 of the Internal Revenue Code.

Affected Public: Businesses or other for-profits.

Estimated Total Annual Burden Hours: 19,087,500.

OMB Control Number: 1545-1736.

Type of Review: Extension without change of a currently approved collection.

Title: Advanced Insurance Commissions—Revenue Procedure 2001-24.

Abstract: A taxpayer that wants to obtain automatic consent to change its method of accounting for cash advances on commissions paid to its agents must agree to the specified terms and conditions under the revenue procedure. This agreement is ratified by attaching the required statement to the federal income tax return for the year of change.

Affected Public: Businesses or other for-profits.

Estimated Total Annual Burden Hours: 1,318.

Bob Faber,
Acting Treasury PRA Clearance Officer.

[FR Doc. 2016-30887 Filed 12-21-16; 8:45 am]

BILLING CODE 4830-01-P